DEPARTMENT OF EDUCATION

[Docket No. ED-2013-ICCD-0021]

Agency Information Collection Activities; Submission to the Office of Management and Budget for Review and Approval; Comment Request; Program for the International Assessment of Adult Competencies (PIAAC) National Supplement Data Collection 2013-2014

AGENCY: Institute for Education Sciences/National Center for Education Statistics (IES/NCES), Department of Education (ED).

ACTION: Notice.

SUMMARY: In accordance with the Paperwork Reduction Act of 1995 (44 U.S.C. chapter 3501 et seq.), ED is proposing a revision of an existing information collection.

DATES: Interested persons are invited to submit comments on or before June 5, 2013.

ADDRESSES: Comments submitted in response to this notice should be submitted electronically through the Federal eRulemaking Portal at http://www.regulations.gov by selecting Docket ID number ED-2013-ICCD-0021 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for the International Assessment of Adult Competencies (PIAAC) National Supplement Data Collection 2013-2014.

OMB Control Number: 1850-0870.

Type of Review: Revision of an existing collection of information.

Respondents/Affected Public: Individuals and households.

Total Estimated Number of Annual Responses: 22,503.

Total Estimated Number of Annual Burden Hours: 6,927.

Abstract: This submission is for the 2013-14 administration of the Program for the International Assessment of Adult Competencies (PIAAC) National Supplement data collection to survey adults (16-74 years old) in households and federal and state prisons. The PIAAC National Supplement builds upon the 2011-12 PIAAC Main Study, which was coordinated by the Organization for Economic Cooperation and Development (http://www.oecd.org/), sponsored by the U.S. Departments of Education and Labor in the United States, and included data collection in 23 countries in addition to the United States. PIAAC assesses adult literacy, numeracy, and problem-solving skills in technology-rich environments and collects survey information from respondents about their education and employment experience and about the skills they use at work. PIAAC builds on previous international literacy assessments including the 2002 Adult Literacy and Lifeskills Survey and the 1994-98 International Adult Literacy Survey. The PIAAC National Supplement data collection will occur between August 2013 and April 2014.

Dated: April 30, 2013.
Stephanie Valentine,
Acting Director, Information Collection Clearance Division, Privacy, Information and Records Management Services, Office of Management.

[FR Doc. 2013-10599 Filed 5-3-13; 8:45 am]

BILLING CODE 4000-01-P